DEPARTMENT OF THE INTERIOR

Bureau of Land Management

[NV-030-1610-DU]

Notice of Availability, Public Meeting, and Protest Period for the Proposed Bureau of Land Management and U.S. Navy Natural Resource Management Plan for Federal Lands in Churchill County, NV

AGENCIES: Department of the Interior, Bureau of Land Management, Carson City Field Office in partnership with the Department of Defense, U.S. Naval Air Station Fallon, Nevada.

ACTION: Notice of availability, public meeting, and protest period for a proposed amendment to the Lahontan Resource Management Plan (RMPA) for the Bureau of Land Management, Carson City Field Office (BLM) based on specific direction within Public Law 106-65, section 3014 (Military Lands Withdrawal Act of 1999). In addition, as a personnel and cost-saving stratagem, the RMPA was prepared jointly with the Naval Air Station Fallon (Navy) to comply with Department of Defense requirements for an Integrated Natural Resource Management Plan (INRMP) in accordance with the Sikes Act Amendment Act (1997), Public Law 105-85.

SUMMARY: The BLM and Navy determined that combining the two agencies' planning processes is the appropriate means to serve as the analysis and basis for decisions on lands identified in the Military Lands Withdrawal Act of 1999 (Act), for withdrawn public lands, Navy-owned lands, and the NAS Fallon Main Station. Public scoping was initiated with a Notice of Intent published in the Federal Register on May 26, 2000 and two public open houses were held in Fallon and Reno, Nevada in June 2000. The following resource-related issues were identified in the Act and through public scoping: Off Highway Vehicle (OHV) use; public access (hunting, ranching, mining, etc.); livestock grazing; sage grouse habitat preservation; Pony Express Trail protection; wildfire prevention and suppression; noxious weeds; cultural resources; water resources and water rights; and sensitive species.

DATES: The document is available for public and agency review and a public open house is scheduled in accordance with 43 CFR 1610.2 and 2310.3-1 to discuss the proposed RMPA/draft INRMP. Personnel from the BLM and Navy will be available to answer questions and take comments at the following public open house: June 6, 2001 (5-7 p.m.), Fallon Convention Center, 100 Campus Way, Fallon, Nevada. Comments will be accepted until June 15, 2001. After the review and protest period ends for the Proposed Natural Resource Management Plan for Federal Lands in Churchill County, comments will be analyzed and considered jointly by the BLM and Navy in preparing the final document.

ADDRESSES: Comments should be sent to: Bureau of Land Management, Carson City Field Office, 5665 Morgan Mill Road, Carson City, NV 89701, Attn: Gary Ryan, Project Manager. Comments may also be sent via electronic mail to the following address: ryang@nsawc.navy.mil or via fax: (775) 885-6147.

Comments, including names and addresses of respondents, will be available for public review at the above address during regular business hours (7:30 a.m.-5 p.m.), Monday through Friday, except holidays, and may be published as part of the document. Individual respondents may request confidentiality. If you wish to withhold your name or street address from public review or from disclosure under the Freedom of Information Act, you must state this prominently at the beginning of your written comment. However, we will not consider anonymous comments. Such requests will be honored to the extent allowed by law. All submissions from organizations or businesses, and from individuals identifying themselves as representatives of organizations or businesses, will be made available for public inspection in their entirety.

FOR FURTHER INFORMATION CONTACT: Gary Ryan, BLM Military Liaison at (775) 426-4011, or Ester Hutchison, NAS Fallon Environmental Office at (775) 426-2912.

Dated: May 2, 2001.
John Singlaub,
Manager, Carson City Field Office.

[FR Doc. 01-11874 Filed 5-15-01; 8:45 am]

BILLING CODE 4310-HC-P